NATIONAL ARCHIVES AND RECORDS ADMINISTRATION

[NARA-2020-056]

Agency Information Collection Activities: Proposed Collection; Comment Request

AGENCY: National Archives and Records Administration (NARA).

ACTION: Notice of proposed extension request.

SUMMARY: NARA proposes to request an extension from the Office of Management and Budget (OMB) of approval to use of a voluntary survey of visitors to the National Archives Museum and building in Washington, DC. In order to measure whether the National Archives Museum is successfully achieving its goals, as well as to determine if we need to make any modifications, we conduct a survey of those who have visited the National Archives Museum, using the American Association of State and Local History (AASLH) customer survey. This is a 12-minute questionnaire given to a random sample of those exiting the NARA location in downtown Washington, DC. We invite you to comment on this proposed information collection pursuant to the Paperwork Reduction Act of 1995.

DATES: We must receive comments in writing on or before October 6, 2020.

ADDRESSES: Send comments by email to tamee.fechhelm@nara.gov. Because our buildings are temporarily closed during the COVID-19 restrictions, we are not able to receive comments by mail during this time.

FOR FURTHER INFORMATION CONTACT: Tamee Fechhelm, Paperwork Reduction Act Officer, by email at tamee.fechhelm@nara.gov or by telephone at 301.837.1694 with requests for additional information or copies of the proposed information collection and supporting statement.

SUPPLEMENTARY INFORMATION: Pursuant to the Paperwork Reduction Act of 1995 (Pub. L. 104-13), we invite the public and other Federal agencies to comment on proposed information collections. The comments and suggestions should address one or more of the following points: (a) Whether the proposed information collection is necessary for NARA to properly perform its functions; (b) our estimate of the burden of the proposed information collection and its accuracy; (c) ways we could enhance the quality, utility, and clarity of the information we collect; (d) ways we could minimize the burden on respondents of collecting the information, including through information technology; and (e) whether this collection affects small businesses. We will summarize any comments you submit and include the summary in our request for OMB approval. All comments will become a matter of public record.

In this notice, we solicit comments concerning the following information collection:

Title: NARA Visitors Study.

OMB number: 3095-0067.

Agency form number: N/A.

Type of review: Regular.

Affected public: Individuals who visit the National Archives Experience in Washington, DC.

Estimated number of respondents: 200.

Estimated time per response: 12 minutes.

Frequency of response: On occasion (when an individual visits the National Archives Museum in Washington, DC).

Estimated total annual burden hours: 40 hours.

Abstract: The general purpose of this voluntary data collection is to benchmark NARA's museum performance in relation to other history museums. Information collected from visitors will assess the overall impact, expectations, presentation, logistics, motivation, demographic profile, and learning experience. Once we analyze the compiled information from the surveys as a set, the collected information will assist us to determine our success in achieving the museum's goals.

Swarnali Haldar,
Executive for Information Services/CIO.

[FR Doc. 2020-17321 Filed 8-6-20; 8:45 am]

BILLING CODE 7515-01-P